DEPARTMENT OF DEFENSE

Department of the Army

Legislative Environmental Impact Statement Addressing Land Withdrawal Extension at Fort Wainwright, Alaska

AGENCY: Department of the Army, DOD.

ACTION: Notice of intent.

SUMMARY: The Department of the Army (Army) announces its intent to conduct public scoping under the National Environmental Policy Act (NEPA) and solicit public comments to gather information to prepare a Legislative Environmental Impact Statement (LEIS) to address continued military use of the Yukon Training Area, near Fort Wainwright, and Donnelly Training Area East and Donnelly Training Area West, near Delta Junction, Alaska. The scoping process will help identify reasonable alternatives, potential environmental impacts, and key issues of concern to be evaluated in the LEIS. Information presented in the LEIS will inform proposed legislation presented to Congress and ultimately Congress's decision regarding the proposed action. The current land withdrawal will expire on November 6, 2026, unless Congress enacts legislation to extend it. The Army is requesting identification of potential alternatives, information sources, and analysis relevant to the proposed action. The scoping period will last 30 days and will include a virtual public meeting.

DATES: Comments must be received by October 25, 2021.

ADDRESSES: Please send written comments to Laura Sample, NEPA Program Manager at: Directorate of Public Works, ATTN: AMIM-AKP-E (L. Sample), 1046 Marks Road #4500, Fort Wainwright, AK 99703-4500, email: usarmy.wainwright.id-pacific.mbx.lwe-leis@mail.mil.

FOR FURTHER INFORMATION CONTACT: Please contact Grant Sattler, Public Affairs Office, AMIM-AKG-PA (Sattler), 1060 Gaffney Road #5900, Fort Wainwright, AK 99703-5900; telephone (907) 353-6701; email: alan.g.sattler.civ@mail.mil

SUPPLEMENTARY INFORMATION: In October 1999 Congress, through the Military Lands Withdrawal Act (Pub. L. [Pub. L.] 106-65), withdrew 869,862 acres of public land comprising Yukon Training Area, Donnelly Training Area East, and Donnelly Training Area West from all forms of appropriation under public land laws and reserved them for use by the Army. The withdrawal extended to November 6, 2026. The Army has determined there is a continuing military need for this land and is requesting to extend its use of the three training areas, which remain officially under the management of the U.S. Bureau of Land Management (BLM).

The Engle Act (Pub. L. 85-337, 43 United States Code § 155ff) requires land withdrawals in excess of 5,000 acres be authorized by Congress through legislation. The U.S. Department of the Interior (DOI) has authority to process federal land withdrawal applications (43 Code of Federal Regulations [CFR] Part 2300). The Military Lands Withdrawal Act requires the Army to notify the Secretary of the Interior and Congress whether there is a continuing military need of the withdrawn land. Subsequently, the Army and DOI shall submit a legislative proposal for the proposed action to Congress not later than May 1, 2025. The BLM, a subordinate agency within the DOI, has agreed to participate as a cooperating agency in the preparation of the LEIS as part of the legislative proposal.

Fort Wainwright, Alaska is in the interior of Alaska in the Fairbanks North Star Borough and is home to the U.S. Army Garrison Alaska and units of U.S. Army Alaska. The Yukon Training Area covers approximately 246,277 acres and is located approximately 16 miles east-southeast of Fairbanks and immediately east of Eielson Air Force Base. Donnelly Training Areas East and West are located near Fort Greely in the Tanana River valley in central Alaska approximately 80 miles southeast from Fort Wainwright, near the city of Delta Junction in the Southeast Fairbanks Census Area. Donnelly Training Area East is approximately 51,590 acres and Donnelly Training Area West is approximately 571,995 acres.

The purpose of the proposed action is to obtain an extension of the land withdrawal of the three training areas for 25 years or more, or have the land assigned to the control of the Secretary of the Army until such time as the Army determines it no longer needs the land for military purposes. The Army requires the continued use of the training areas on withdrawn land to execute and fulfill its mission in Alaska. Access to the withdrawn land enables the Army to produce a force trained to mobilize, deploy, fight, and win anywhere in the world. Army training conditions must match or closely resemble all possible environments throughout the world, including arctic and subarctic conditions. In addition to Army training needs, the U.S. Air Force plans, conducts, and coordinates air operations in the restricted airspace over the withdrawn land.

To understand the environmental consequences of the decision to be made, the LEIS will evaluate the reasonably foreseeable effects resulting from the project alternatives. Alternatives to be considered include (1) extending the land withdrawal for 25 years or more, or assigning control of the land to the Secretary of the Army until such time as the Army determines it no longer needs the land for military purposes, and (2) a No Action alternative, under which the withdrawal would not be extended and uncontaminated portions of the withdrawn land would be returned to the management of the DOI. Other reasonable alternatives raised during the scoping process and capable of meeting the project's purpose and need may be considered for evaluation in the LEIS.

The Army will analyze potential impacts for the following resource areas: Recreational uses of the withdrawn land; subsistence uses according to the Alaska National Interest Lands Conservation Act Section 810; air quality; noise; soil; water quality; wildlife; timber management; archaeological sites and districts; traffic and transportation; and hazardous materials. The LEIS will also identify mitigation measures that would reduce or eliminate adverse impacts. The environmental analysis will include consultation with the U.S. Fish and Wildlife Service and the Alaska State Historic Preservation Office and other Federal, state, and tribal entities. Significant impacts may include economic impacts to the communities of Delta Junction and Fairbanks, recreational and military use of airspace, including currently restricted airspace, utilities and infrastructure, and hazardous and toxic materials and waste.

Following the 30-day scoping period, and after consideration of comments received during scoping, the Army will prepare a Draft LEIS. The U.S. Environmental Protection Agency will announce the availability of the Draft LEIS in the Federal Register. The Army will also announce the release of the Draft LEIS in local media outlets, kicking off a public comment period during which it will hold public meetings. In accordance with 40 CFR 1506.8 a Final LEIS is not required for the legislative EIS process, and it will not be prepared for this action. Public comments on the Draft LEIS will be submitted as part of the legislative proposal.

Federal, state, and local agencies, Alaska Native tribes, Alaska Native tribal organizations, and the public are invited to be involved in the scoping process for the preparation of this LEIS by participating in a scoping meeting and submitting written comments. To assist the Army in the development of this LEIS, the Army encourages submission of comments on potential alternatives, potential environmental impacts, information, and analyses relevant to the proposed action. Written comments must be sent within 30 days of publication of this Notice of Intent in the Federal Register. In the interest of public health, scoping meetings will be held in a virtual environment and the date(s) will be posted online at https://home.army.mil/alaska/index.php/fort-wainwright/NEPA. Date(s) and time(s) for the public meeting will also be advertised in local area newspapers.

The Draft LEIS is anticipated to be published in summer 2022. The decision for this action will be made by Congress.

James W. Satterwhite Jr.,
Army Federal Register Liaison Officer.

[FR Doc. 2021-20661 Filed 9-23-21; 8:45 am]

BILLING CODE 5061-AP-P